DEPARTMENT OF THE INTERIOR

National Park Service

Consultation on regulations regarding the disposition of unclaimed Native American cultural items excavated or discovered on Federal or tribal lands after November 16, 1990, pursuant to provisions of the Native American Graves Protection and Repatriation Act (NAGPRA)

AGENCY: National Park Service, Interior.

ACTION: Notice of consultation.

SUMMARY: This notice announces three consultation meetings that will be held to obtain oral and written recommendations on regulations to be drafted regarding the disposition of unclaimed Native American cultural items that are excavated or discovered on Federal or tribal lands after November 16, 1990 [43 CFR 10.7].

DATES: The three consultation meetings are scheduled for November 15-17, 2005:

1. Tribal consultation: November 15, 2005, 8:30 a.m. to noon, Albuquerque, NM. Authorized representatives of Indian tribes and Native Hawaiian organizations and traditional Native American religious leaders are invited to participate in this meeting. Tribal representatives wishing to make a public presentation at this session should submit a request to do so by November 11, 2005, including evidence that you are authorized to speak on behalf of an Indian tribe or Native Hawaiian organization. This meeting supports the Secretary of the Interior's administrative policy on tribal consultation by encouraging maximum direct participation of representatives of tribal governments on important Departmental issues and processes.

2. Museum consultation: November 15, 2005, 1:00 p.m. to 4:30 p.m., Albuquerque, NM. Authorized representatives of museums and national museum and scientific organizations are invited to participate in this meeting. This meeting supports the Secretary of the Interior's responsibility to consult with museums and the scientific community in the development of these regulations. Museum representatives wishing to make a public presentation at this session should submit a request to do so by November 11, 2005, including evidence that you are authorized to speak on behalf of a museum or national museum or scientific organization.

3. Review Committee consultation: November 16-17, 2005, Albuquerque, NM. This meeting supports the Department of the Interior's responsibility to consult with the Review Committee regarding the development of regulations. Time will be scheduled during the Review Committee meeting for members of the public to provide oral and written recommendations. Members of the public wishing to make a public presentation at the Review Committee meeting should submit a request to do so by November 11, 2005.

Requests to make presentations at any of the sessions should be faxed to (202) 371-5197 by November 11, 2005.

Written comments may be mailed to Sherry Hutt, Manager, National NAGPRA Program, National Park Service, 1849 C Street NW, Washington, DC 20240. Comments may also be faxed to Sherry Hutt at (202) 371-5197. Written comments should be postmarked or faxed no later than November 30, 2005.

ADDRESSES: The consultation sessions will be held at the Cochiti/Taos Room, Albuquerque Convention Center, 401 Second Street NW, Albuquerque, NM 87102. A block of lodging rooms has been set-aside at a reduced rate at the Double Tree Hotel, which is adjacent to the Convention Center. Reservations for rooms in this block may be made by calling (505) 247-3344 and referencing the National NAGPRA Program. Reservations must be made by October 31, 2005, to guarantee the reduced rate available for persons attending this meeting.

FOR FURTHER INFORMATION CONTACT: Sherry Hutt, Manager, National NAGPRA Program, National Park Service, 1849 C Street NW, Washington, DC 20240, telephone: (202) 354-1479.

SUPPLEMENTARY INFORMATION: The purpose of the consultation meetings is to provide Native American organizations, museums and the scientific community, and the Native American Graves Protection and Repatriation Review Committee with an opportunity to consult on forthcoming regulations regarding the disposition of unclaimed Native American cultural items excavated or discovered on Federal or tribal lands after November 16, 1990.

The Native American Graves Protection and Repatriation Act provides criteria for determining the ownership of Native American cultural items that are excavated or discovered on Federal or tribal lands after November 16, 1990 [25 U.S.C. 3002 (a)]. The Secretary of the Interior clarified the ownership criteria by regulations published in 1995 [Federal Register Vol.60, no. 232, pages 62163-62164]. Ownership of such items is, with priority given in the order listed:

(1) In the case of human remains and associated funerary objects, in the lineal descendant of the deceased individual;

(2) In cases where the lineal descendant cannot be ascertained or no claim is made, and with respect to unassociated funerary objects, sacred objects, and objects of cultural patrimony:

(i) In the Indian tribe on whose tribal land the human remains, funerary objects, sacred objects, or objects of cultural patrimony were discovered inadvertently;

(ii) In the Indian tribe or Native Hawaiian organization that has the closest cultural affiliation with the human remains, funerary objects, sacred objects, or objects of cultural patrimony;

(iii) In circumstances in which the cultural affiliation of the human remains, funerary objects, sacred objects, or objects of cultural patrimony cannot be ascertained and the objects were discovered inadvertently on Federal land that is recognized by a final judgment of the Indian Claims Commission or the United States Court of Claims as the aboriginal land of an Indian tribe:

(A) In the Indian tribe aboriginally occupying the Federal land on which the human remains, funerary objects, sacred objects, or objects of cultural patrimony were discovered, or

(B) If it can be shown that a different Indian tribe or Native Hawaiian organization has a stronger cultural relationship with the human remains, funerary objects, sacred objects, or objects of cultural patrimony, in the Indian tribe or Native Hawaiian organization that has the strongest demonstrated relationship with the objects [43 CFR 10.6 (a)].

The Act directs that Native American cultural items not claimed under subsection (a) shall be disposed of in accordance with regulations promulgated by the Secretary of the Interior in consultation with the Review Committee, Native American groups, representatives of museums, and the scientific community [25 U.S.C. 3002 (b)]. One section of the regulations was reserved for procedures to effect the disposition of Native American cultural items that are not claimed [43 CFR 10.7].

Participants in the consultation meetings are requested to comment on the following issues:

(1) How should the regulations deal with the distinction between cultural items for which ownership or control has been ascertained pursuant to 43 CFR 10.6 (a) but the identified lineal descendant, Indian tribe, or Native Hawaiian organization has not claimed the cultural items and cultural items for which ownership or control cannot be ascertained pursuant to 43 CFR 10.6 (a)?

(2) How long may a cultural item removed from Federal land after November 16, 1990 remain in Federal agency possession before it is considered unclaimed?

(3) What are the appropriate dispositions for unclaimed cultural items?

(4) How should the regulations deal with the management, preservation, and use of unclaimed cultural items?

Dated: September 23, 2005
Sherry Hutt,
Manager, National NAGPRA Program.

[FR Doc. 05-20201 Filed 10-6-05; 8:45 am]

BILLING CODE 4312-50-S